DEPARTMENT OF ENERGY

Energy Information Administration

Agency Information Collection Activities: Proposed Collection; Comment Request

AGENCY: Energy Information Administration (EIA), Department of Energy (DOE).

ACTION: Agency information collection activities: Proposed collection; comment request.

SUMMARY: The EIA is soliciting comments on the proposed revisions and a three-year extension to the Forms:

EIA-411, “Coordinated Bulk Power Supply Program Report,”

EIA-412, “Annual Electric Industry Financial Report,”

EIA-423, “Monthly Cost and Quality of Fuels for Electric Plants,”

EIA-767, “Steam-Electric Plant Operation and Design Report,”

EIA-826, “Monthly Electric Sales and Revenue with State Distributions Report,”

EIA-860, “Annual Electric Generator Report,”

EIA-861, “Annual Electric Power Industry Report,”

EIA-906, “Power Plant Report,” and

EIA-920, “Combined Heat and Power Plant Report.”

The EIA is also soliciting comments on a proposed new Form EIA-860M, “Monthly Update to the Annual Electric Generator Report” to be authorized for three years.

DATES: Comments must be filed by June 1, 2004. If you anticipate difficulty in submitting comments within that period, contact the person listed below as soon as possible.

ADDRESSES: Send comments to Charlene Harris-Russell. To ensure receipt of the comments by the due date, submission by fax ((202) 287-1946) or e-mail Charlene.Harris-Russell@eia.doe.gov is recommended. The mailing address is Energy Information Administration, Electric Power Division, EI-53, Forrestal Building, U.S. Department of Energy, Washington, DC 20585. Alternatively, Charlene Harris-Russell may be contacted by telephone at (202) 287-1747.

FOR FURTHER INFORMATION CONTACT: Requests for additional information or copies of any forms and instructions should be directed to Charlene Harris-Russell at the address listed above. To review the proposed forms and instructions, please visit: http://www.eia.doe.gov/cneaf/electricity/page/fednotice/formsandinstr.html.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under section 3507(a) of the Paperwork Reduction Act of 1995.

The EIA collects information about the electric power industry for use by government and private sector analysts. The survey information is disseminated in a variety of print publications, electronic products, and electronic data files. For details on EIA's electric power information program, please visit the electricity page of EIA's Web site at http://www.eia.doe.gov/fuelelectric.html.

Please refer to the proposed forms and instructions for more information about the purpose, who must report, when to report, where to submit, the elements to be reported, detailed instructions, provisions for confidentiality, and uses (including possible nonstatistical uses) of the information. For instructions on obtaining materials, see the FOR FURTHER INFORMATION CONTACT section.

II. Current Actions

EIA has completed an extensive review and update of the electric power survey collection instruments. The forms presented here are the result of that task which includes input from the electric power industry, other industrial users of the data, government agencies, consumer groups, and private sector analysts. Along with the forms changes, the EIA is proposing a revision to the commercially sensitive data elements collected on EIA's electric power forms that will be treated as confidential.

As a means of improving its electric power surveys to reflect the changing industry, EIA proposes the following changes:

Form EIA-411, “Coordinated Bulk Power Supply Program Report.” The collection of this form is proposed to become mandatory subject to a revised memorandum of agreement with the North American Electric Reliability Council. Additional revisions include: (1) Reconcile differences between capacity totals reported to EIA by its respondents and the planning capacity data reported by the North American Electric Reliability Council, (2) transmission line outage data, and (3) distributed generation data. Specifically, a new Schedule 3, Reconciliation Between Total Generation Regional Capacity and Planned Regional Capacity Resources (Summer, Winter), collects 35 proposed data elements on generator capacity. This replaces the previous Schedule 3 that collected 115 data elements concerning capacity information by generator. A new Schedule 7, Annual Data for Transmission Line Outages for Extra High Voltage (EHV) Lines, will collect 13 new data elements on outages by voltage class. Schedule 2, Part A and B. Historical and Projected Demand and Capacity—Summer, Winter, will collect distributed generation data. Together, these represent a net decrease of 60 data elements on the Form EIA-411. The form and instructions will be modified to show these changes.

Form EIA-412 “Annual Electric Industry Financial Report.” This form will now ask in the Identification Section, if an entity generates electricity. In addition, a new Schedule 9B, Electric Generating Plant Statistics, Unregulated Companies, will collect cost data from unregulated plants at a higher aggregated level than previously requested. As a result of these actions, the overall net change for the Form EIA-412 is a decrease of 10 data elements collected from unregulated plants. Schedule 9, Part A, is no longer applicable to unregulated plants. The form and instructions will be modified to show these changes.

Form EIA-423, “Monthly Cost and Quality of Fuels for Electric Plants.” EIA proposes to ask one new question that will identify ‘tolling agreements’ for a plant. A tolling agreement is an arrangement that allows one company to have marketing control of electricity produced by generating assets owned by another company. The agreement usually requires the marketer to procure the fuel supply necessary to produce the electricity. The form and instructions will be modified to show this change.

Form EIA-767, “Steam-Electric Plant Generation and Design Report.” EIA proposes to revise Schedule 4. Part E, Mercury Emission Controls. This schedule will allow respondents to select from an array of mercury emission controls rather than provide a written description of the emission control type. The form and instructions will be modified to reflect these changes.

Form EIA-826, “Monthly Electric Sales and Revenue with State Distributions Report.” Schedule 1. Part D, Bundled Service by Retail Energy Providers, or any Power Marketer that Provides “Bundled Service”, and Part E, Any Other Retail Service Provider, are new categories of providers that will answer the same questions as Parts A, B, and C. These new respondents do not fit into current ownership categories. In addition, a question has been added requesting information on mergers and acquisitions by reporting parties during the report period. The net result is the addition of new categories of respondents and one data item for existing respondents. The form and instructions will be modified to reflect these changes.

Form EIA-860, “Annual Electric Generator Report.” Schedule 5. New Generator Connection Information, will collect cost and physical data about the site connection of a new generator to the electric grid. In addition, Schedule 3. Power Plant Data, will be revised to collect generator-level information on fuel switching capability for existing power plants and those planned for initial operation in five years. As a result of these additions, 65 new items will be added to the form. The form and instructions will be modified to show these changes.

Form EIA-861, “Annual Electric Power Industry Report.” A question will be added to Schedule 2. Part A, General Information, which asks for the status of plans to operate alternate-fueled vehicles. In addition, Schedule 4. Part D, Bundled Service by Retail Energy Providers, or any Power Marketer that Provides “Bundled Service”, and Part E, Any Other Retail Service Provider, are supplied for new categories of providers that will answer the same questions as Parts A, B, and C. These new respondents do not fit into current ownership categories. In addition, a question has been added requesting information on mergers and acquisitions by reporting parties during the reporting period. Also, 7 additional data items will be collected on Schedule 6, Demand-Side Management, about costs incurred in DSM programs. Schedule 7, Customer-Site Generation, will collect data on distributed generation capacity, including back-up generation capacity. The net result is the addition of new respondent categories and 28 data elements. The form and instructions will be modified to show these changes.

Form EIA-906, “Power Plant Report.” A new Schedule 3, Annual Electricity Sources and Disposition, will incorporate a new schedule to collect energy sources and disposition from unregulated electricity generators. This data will be collected once a year as annual totals. The form will also be modified to collect gross generation in addition to the existing collection of net generation. This data will be collected monthly from a sample of respondents and annually from the remaining respondents. The result of adding this schedule is the addition of 8 new data elements. The form and instructions will be modified to reflect these changes.

Form EIA-920, “Combined Heat and Power Plant Report.” A new Schedule 4, Annual Electricity Sources and Disposition, will collect energy sources and disposition from ‘combined heat and power plants’. This data will be collected once a year as annual totals. The schedule will result in 8 new data elements. The form and instructions will be modified to reflect the changes.

Form EIA-860M, “Monthly Update to the Annual Electric Generator Report.” This new form will collect data on the status of proposed new generators or proposed changes to existing generators. It will be collected for each generator that is scheduled to become operational within a rolling 12 month period. For inclusion in the EIA-906 monthly survey a generator must meet the same criteria as for the EIA-860 annual survey: the generator must have a nameplate capacity of 1 megawatt or greater and the generator, or the facility that houses the generator, must be connected to the electric power grid. Data items to be collected include the current status of the plant, prime mover type, and nameplate capacity. There will be 15 data items collected on each proposed or modified generators. Form and instructions will be provided.

With regard to confidential treatment of information reported on the electric power surveys, EIA is proposing changes in the elements that will be treated as confidential and not publicly released in individually-identifiable form. These changes are being proposed for two reasons. First, as the level of generation competition increases, so does the concern for the disclosure of commercially sensitive data. Certain elements reported on EIA's electric power survey forms are trade secrets and commercial or financial information that are privileged or confidential. Also, certain elements reported on EIA's electric power surveys reveal details that could be exploited by those seeking to harm the Nation's critical energy infrastructure. Public release of these elements is expected to impair the Government's ability to obtain the information in the future and would be harmful to the Government's ability to analyze and respond to situations affecting the electric power supply and system operations of the United States.

EIA continuously monitors the electric power industry. Based on its review, EIA is proposing to increase the number of elements that will be treated as confidential. Following are the data elements from EIA's electric power surveys that will receive confidential treatment beginning in 2005. (Elements currently treated as confidential by EIA are marked by asterisks.)

a. Monthly retail sales, revenue and number of customers of energy service providers* (EIA-826) (see following discussion regarding removal of the confidential protection 6 months after the end of the calendar year of the data).

b. Fuel cost* (EIA-423) (see following discussion regarding removal of the confidential protection 6 months after the end of the calendar year of the data).

c. Fuel Stocks* (EIA-906 and EIA-920) (see following discussion regarding removal of the confidential protection 6 months after the end of the calendar year of the data).

d. Plant cost data for unregulated plants* (EIA-412) (see following discussion regarding additional protection limiting use to exclusively statistical purposes).

e. Latitude and Longitude* (EIA-767 and EIA-860).

f. Bulk Transmission Facility Power Flow Cases (EIA-411).

g. Electric Transmission Maps (EIA-411).

h. Maximum tested heat rate under full load* (EIA-860).

In addition to the elements listed above that will be treated as confidential, EIA proposes to collect one of those elements in accordance with the Confidential Information Protection and Statistical Efficiency Act of 2002 (CIPSEA) (Title 5 of Pub. L. 107-347). This will ensure that the information is used only for exclusively statistical purposes unless respondents provide informed consent for other uses. The element to be collected under CIPSEA is: Plant cost for unregulated entities (EIA-412).

For certain elements, commercial sensitivity declines rapidly over time and EIA is proposing to remove the confidential protection 6 months after the end of the calendar year of the data for the:

a. Fuel cost (EIA-423).

b. Fuel stocks (EIA-906 and EIA-920).

c. Monthly retail sales, revenues and number of customers of energy providers (EIA-826).

The individual survey forms and instructions will be modified to address the specific confidentiality provisions that apply to the data elements.

III. Request for Comments

Prospective respondents and other interested parties should comment on the proposals discussed in Item II. The following guidelines are provided to assist in the preparation of comments. Please indicate to which form(s) your comments apply.

General Issues

A. Are the proposed collections of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

C. Does EIA's proposed confidentiality treatment for electric power survey information maximize the utility of the data for users while adequately protecting sensitive information?

As a Potential Respondent to the Request for Information

A. What actions could be taken to help ensure and maximize the quality, objectivity, utility, and integrity of the information to be collected?

B. Are the instructions and definitions clear and sufficient? If not, which instructions need clarification?

C. Can the information be submitted by the due dates?

D. Public reporting burden for the collections are estimated to average the times shown below. The estimated burden includes the total time necessary to provide the requested information. In your opinion, how accurate are these estimates?

Form EIA-411, “Bulk Power Supply Program Report,”—14.15 hours per response in 2005 (previous estimate was 16.15 hours);

Form EIA-412, “Annual Electric Industry Financial Report Utilities,”—25.00 hours per response in 2005 (previous estimate was 25.00 hours);

Form EIA-423, “Cost and Quality of Fuels for Electric Plants,”—2.00 hours per response in 2005 (previous estimate was 2.00 hours);

Form EIA-767, “Steam Electric Plant Operation and Design Report,”—82.00 hours per response in 2005 (previous estimate was 82.00 hours);

Form EIA-826, “Monthly Electric Sales and Revenue with State Distributions Report,” 1.50 hours per response in 2005 (previous estimate was 1.50 hours);

Form EIA-860, “Annual Electric Generator Report,”—18.12 hours per response in 2005 (previous estimate was 16.12 hours);

Form EIA-861, “ Annual Electric Power Industry Report,”—10.50 hours per response in 2005 (previous estimate was 9.30 hours);

Form EIA-906, “Power Plant Report,”—2.00 hours per response in 2005 (previous estimate was 1.40 hours);

Form EIA-920, “Combined Heat and Power Plant Report,”—2.00 hours per response in 2005 (previous estimate was 1.40 hours);

Form EIA-860M, “Monthly Update to the Annual Electric Generator Report,”—1.00 hour per response in 2005 (new form).

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. 104-13, 44 U.S.C. Chapter 35).

Issued in Washington, DC, March 30, 2004.
Jay H. Casselberry,
Agency Clearance Officer, Statistics and Methods Group, Energy Information Administration.

[FR Doc. 04-7484 Filed 4-1-04; 8:45 am]

BILLING CODE 6450-01-P